DEPARTMENT OF HEALTH AND HUMAN SERVICES

Centers for Disease Control and Prevention

[30dy-08-07BH]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an email to omb@cdc.gov. Send written comments to CDC Desk Officer, Office of Management and Budget, Washington, DC or by fax to (202) 395-6974. Written comments should be received within 30 days of this notice.

Proposed Project

Environmental Health Specialists Network (EHS-NET) Program—New—National Center for Environmental Health (NCEH), Centers for Disease Control and Prevention (CDC).

Background and Brief Description

The purpose of this project is to conduct research focused on identifying the environmental causes of food and waterborne illness and improving environmental public health practice. This research program is conducted by the Environmental Health Specialists Network (EHS-Net), a collaborative project of CDC, the U.S. Food and Drug Administration (FDA), the U.S. Department of Agriculture (USDA), the U.S. Environmental Protection Agency (U.S. EPA), and nine states (California, Connecticut, Georgia, Iowa, New York, Minnesota, Oregon, Rhode Island, and Tennessee). The network consists of environmental health professionals, epidemiologists, and laboratorians.

EHS-Net plans to conduct a maximum of 35 applied research projects per year. These research projects will focus on identifying and understanding environmental factors associated with food and waterborne illness, such as poor food and water handling practices. These projects will also focus on evaluation of food and water safety regulatory programs. Data collection for these projects may involve: (1) Surveys, (2) observations, and (3) food, water, and environmental sampling. Data may be collected from: (1) Retail food establishments, where the majority of foodborne illness outbreaks originate, (2) public and non-public water systems, representing possible sources of waterborne illness, and (3) environmental public health program regulators (food and water), who are responsible for food and water safety.

There will be up to 3,900 respondents for retail food service workers; 2,200 respondents for water system operators; and 4,275 respondents for environmental public health program (food and water) regulators. Each respondent will respond only once and the average burden per response will be approximately 90 minutes. The maximum total annual burden for all EHS-Net projects is expected to be approximately 20,625 hours.

There is no cost to the respondents other than their time.

Estimated Annualized Burden
Respondents | Number of respondents | Number of responses per respondent | Average burden per response (in hours)
Retail food service workers—pretest for data collection | 300 | 1 | 1.5
Retail food service workers—data collection | 3,600 | 1 | 1.5
Water system operators—pretest for data collection | 200 | 1 | 1.5
Water system operators—data collection | 2,000 | 1 | 1.5
Environmental public health program (food and water) regulators—pretest for data collection | 375 | 1 | 1.5
Environmental public health program (food and water) regulators—data collection | 3,900 | 1 | 1.5

Dated: March 11, 2008.
Maryam I. Daneshvar,
Acting Reports Clearance Officer, Centers for Disease Control and Prevention.

[FR Doc. E8-5261 Filed 3-14-08; 8:45 am]

BILLING CODE 4163-18-P